DEPARTMENT OF THE INTERIOR

Fish and Wildlife Service

[FWS-R3-ES-2016-N068; FVES59420300000F2-14X-FF03E00000]

Endangered and Threatened Wildlife and Plants; Receipt of Application for Renewal of Incidental Take Permit; Enbridge Pipelines (Lakehead) LLC

AGENCY: Fish and Wildlife Service, Interior.

ACTION: Notice of availability.

SUMMARY: We, the U.S. Fish and Wildlife Service (Service, USFWS), have received an application from Enbridge Pipelines (Lakehead) L.L.C. (applicant) to renew an incidental take permit (ITP) under the Endangered Species Act of 1973 for incidental take of the federally endangered Hine's emerald dragonfly. The applicant has requested renewal without change of the ITP, which expired on December 31, 2015. We invite comments on the applicant's application, including written data, views, or arguments with respect to the application.

DATES: To ensure consideration, please send your written comments on or before July 21, 2016.

ADDRESSES: Send written comments by one of the following methods:

• U.S. mail: Field Supervisor, Attn: Jack Dingledine, U.S. Fish and Wildlife Service, 2651 Coolidge Road East, Ste. 101, Lansing, MI 48823.

• Email: Jack_Dingledine@fws.gov.

FOR FURTHER INFORMATION CONTACT: Jack Dingledine, by mail at the East Lansing Field Office (see ADDRESSES); by telephone (517-351-6320), or by facsimile (517-351-1443). If you use a telecommunications device for the deaf (TDD), please call the Federal Information Relay Service at 800-877-8339.

SUPPLEMENTARY INFORMATION: We, the U.S. Fish and Wildlife Service (Service, USFWS), have received an application from Enbridge Pipelines (Lakehead) L.L.C. (applicant) to renew an incidental take permit (ITP), TE03689B-1, under the Endangered Species Act of 1973 (16 U.S.C. 1531 et seq.; ESA). In 2013, the applicant received an ITP for incidental take of the federally endangered Hine's emerald dragonfly (Somatochlora hineana) (78 FR 15374; March 11, 2013). That permit expired on December 31, 2015. As part of the initial permit process, the applicant prepared a low-effect habitat conservation plan (HCP) to cover activities associated with pipeline maintenance work in Garfield Township, Mackinac County, Michigan. The pipeline inspection and maintenance have been completed per the HCP. The mitigation measures required in the HCP have been met; however, performance and success criteria for restoration of the site have been only partially met. The applicant has requested renewal of the ITP, without change, to continue monitoring of the restoration and implement any remedial measures, if necessary, until December 31, 2017. We invite comments on the applicant's application for renewal.

Background

On December 12, 2013, Enbridge Pipelines (Lakehead) L.L.C. (Enbridge) received an ITP for take of the Hine's Emerald Dragonfly (Somatochlora hineana) that may occur during inspection and repair of three sections of Enbridge's Line 5 (30-inch diameter) pipeline in Garfield Township, Mackinac County. The permit was amended on January 25, 2015, to include a fourth section of pipeline within the original HCP boundaries (2.64 acres). The project is located approximately 1 mile east of the City of Engadine, Michigan, along the Enbridge right-of-way (ROW).

Applicant's Proposed Action

Enbridge has completed the pipeline inspection and maintenance and all required mitigation measures, per the HCP. Enbridge has also conducted annual monitoring and submitted annual reports. The monitoring indicates that the performance and success criteria for restoration of the site have been only partially met. Enbridge requests renewal of the ITP to continue monitoring of the restoration and implement any remedial measures, if necessary, until December 31, 2017.

Reviewing Documents and Submitting Comments

Please refer to permit number TE03689B-1 when submitting comments. The permit application and supporting documents may be obtained on the Internet at http://www.fws.gov/midwest/endangered/permits/hcp/r3hcps.html. Persons without access to the Internet may obtain copies of the permit application by contacting the U.S. Fish and Wildlife Service (ADDRESSES). The permit application and supporting documents will also be available for public inspection, by appointment, during normal business hours (8 a.m. to 4 p.m.) at the USFWS Lansing office (see ADDRESSES). Written comments will be accepted as described under ADDRESSES.

Public Availability of Comments

Written comments we receive become part of the public record associated with this action. Before including your address, phone number, email address, or other personal identifying information in your comment, you should be aware that the entire comment, including your personal identifying information, may be made available at any time. While you can ask us in your comment to withhold your personal identifying information from public review, we cannot guarantee that we will be able to do so.

Next Steps

We will evaluate the permit application, including comments we receive, to determine whether the application meets the requirements of section 10(a)(1)(B) of the Act. We will also evaluate whether renewal of the ITP would comply with section 7(a)(2) of the Act by conducting an intra-Service Section 7 consultation. We will use the results of our internal Service consultation, in combination with the above findings, in our final analysis to determine whether to renew the permit. If the requirements are met, we will renew the ITP. We will make the final permit decision no sooner than 30 days after the date of this notice.

Authority

We provide this notice under section 10 of the ESA (16 U.S.C. 1531 et seq.), section 668a of the Eagle Act (16 U.S.C. 668a-668d), NEPA (42 U.S.C. 4321 et seq.), and NEPA regulations (40 CFR 1501.7, 1506.5, 1506.6 and 1508.22).

Dated: June 15, 2016.
Sean Marsan,
Acting Assistant Regional Director, Ecological Services, Midwest Region.

[FR Doc. 2016-14623 Filed 6-20-16; 8:45 am]

BILLING CODE 4333-15-P